DEPARTMENT OF HEALTH AND HUMAN SERVICES

Indian Health Service

Injury Prevention Program; Announcement; New and Competing Continuation Cooperation Agreement; Correction

AGENCY: Indian Health Service, HHS.

ACTION: Notice; correction.

SUMMARY: The Indian Health Service published a document in the Federal Register on April 14, 2015 for the FY 2015 New and Competing Continuation Cooperative Agreement Funding Announcement. The notice contained an incorrect statement.

FOR FURTHER INFORMATION CONTACT: Nancy Bill, Injury Prevention Program Manager, Indian Health Service, 801 Thompson Avenue, TMP Suite 610, Rockville, MD 20852, Telephone (301) 443-0105. (This is not a toll-free number.)

Corrections

In the Federal Register of April 14, 2015, 80 FR 19994, on page 19995, in the first column, under the heading “Anticipated Number of Awards,” insert the word “Year” in the last sentence in that column to read:

“Part II—Five-Year Effective Strategy Projects: Up to $20,000, for each of the five years, will be awarded to successful applicants (up to 15 awards).”

Dated: May 5, 2015.
Robert G. McSwain,
Acting Director, Indian Health Service.

[FR Doc. 2015-11424 Filed 5-11-15; 8:45 am]

BILLING CODE 4165-16-P